Title 3—

The President

Proclamation 10725 of April 1, 2024

World Autism Awareness Day, 2024

By the President of the United States of America

A Proclamation

America was founded on the idea that all people are created equal and deserve to be treated equally throughout their lives. Today, we champion the equal rights and dignity of the millions of Americans on the autism spectrum, and we celebrate the immense contributions of all neurodiverse people, whose perspectives and experiences make America a richer Nation.

Some 5.4 million American adults and 1 in 36 children have been diagnosed with autism. Their experiences with the condition vary widely, but their talents and potential are too often misunderstood or overlooked. Autistic people routinely face unnecessary obstacles to securing employment and health care and children face bullying and barriers to education. We can work to end these disparities and ensure they have an equal opportunity to reach their dreams by making sure that people with autism and those who support them have the resources and tools they need to communicate, grow, work, and achieve greater independence.

Early diagnosis can make a big difference, which is why my Administration is funding groundbreaking research to boost access to diagnoses and services that can help autistic people of all ages thrive. The Department of Education and the Department of Health and Human Services are also working to ensure that young children with disabilities, including autism, have access to high-quality, inclusive early childhood programs so that they can thrive as well as helping schools leverage Medicaid to deliver critical health care services. Further, my Administration released guidance on how schools can obtain, use, and support assistive technology devices that are essential to the success of some people with disabilities. Meanwhile, the Department of Education is helping public schools avoid discriminatory discipline for autistic students, whose needs can be misunderstood, while also working to get students with autism and their teachers the resources they need to thrive. We are working to boost understanding among community members who can help keep people with autism safe—I was proud to sign a reauthorization of Kevin and Avonte's Law, expanding training for first responders and caregivers.

My Administration is also making it easier for all Americans to get the health care they need. We protected and strengthened the Affordable Care Act and Medicaid, expanding health care coverage to millions of Americans. At the same time, we lowered health insurance premiums by $800 per year for millions of Americans. Through the American Rescue Plan, we provided $37 billion to make it easier for people with disabilities, including autism, to receive the services they need at home and stay active in their communities. My Budget requests another $150 billion over the next decade to further expand and improve these life-changing services.

We owe everyone in this country a fair shot at the American Dream, so we are also working to increase job opportunities for autistic and other historically marginalized Americans who have been shut out for too long. My Administration is providing State and local governments, private companies, and nonprofits with Federal funding to hire more Americans with disabilities, including those with autism. I signed an Executive Order to make the Federal workforce more inclusive, and I eliminated the unjust use of sub-minimum wages for people with disabilities by Federal contractors, working to ensure every American has equal protection under the law.

Globally, we are advancing disability rights as part of our work to promote democracy, prosperity, and inclusion. We are prioritizing disability rights in policy discussions with other nations, and we are working through the United States Agency for International Development and as co-chair of the Global Action on Disability Network to stand for the dignity and equal rights of people with disabilities worldwide.

Diversity in all its forms is one of America's greatest strengths. Today, we recommit to making the promise of America real for every American on the autism spectrum, upholding our most basic values of decency, fairness, and respect.

NOW, THEREFORE, I, JOSEPH R. BIDEN JR., President of the United States of America, by virtue of the authority vested in me by the Constitution and the laws of the United States, do hereby proclaim April 2, 2024, as World Autism Awareness Day. I call upon all Americans to learn more about autism to improve early diagnosis, to learn more about the experiences of autistic people from autistic people, and to build more welcoming and inclusive communities to support people with autism.

IN WITNESS WHEREOF, I have hereunto set my hand this first day of April, in the year of our Lord two thousand twenty-four, and of the Independence of the United States of America the two hundred and forty-eighth.

[FR Doc. 2024-07284

Filed 4-3-24; 8:45 am]

Billing code 3395-F4-P